DEPARTMENT OF ENERGY

Federal Energy Regulatory Commission

Combined Notice of Filings #2

Take notice that the Commission received the following electric rate filings:

Docket Numbers: ER22-1192-003.

Applicants: Constellation Mystic Power, LLC.

Description: Compliance filing: Compliance Filing of Settlement Tariff Sheets to be effective 6/1/2022.

Filed Date: 12/2/22.

Accession Number: 20221202-5079.

Comment Date: 5 p.m. ET 12/23/22.

Docket Numbers: ER23-175-001.

Applicants: Daggett Solar Power 3 LLC.

Description: Tariff Amendment: Amendment to Market-Based Rate Application to be effective 12/26/2022.

Filed Date: 12/2/22.

Accession Number: 20221202-5111.

Comment Date: 5 p.m. ET 12/23/22.

Docket Numbers: ER23-545-000.

Applicants: PacifiCorp.

Description: § 205(d) Rate Filing: OATT Revised Attachment H-1—Attachment 14 to be effective 2/2/2023.

Filed Date: 12/2/22.

Accession Number: 20221202-5019.

Comment Date: 5 p.m. ET 12/23/22.

Docket Numbers: ER23-546-000.

Applicants: Meadowlark Wind I LLC.

Description: Baseline eTariff Filing: Reactive Power Compensation Baseline to be effective 1/31/2023.

Filed Date: 12/2/22.

Accession Number: 20221202-5032.

Comment Date: 5 p.m. ET 12/23/22.

Docket Numbers: ER23-547-000.

Applicants: Midcontinent Independent System Operator, Inc.

Description: § 205(d) Rate Filing: 2022-12-02_SA 3296 ITC-DIG J1262 1st Rev GIA to be effective 11/22/2022.

Filed Date: 12/2/22.

Accession Number: 20221202-5049.

Comment Date: 5 p.m. ET 12/23/22.

Docket Numbers: ER23-548-000.

Applicants: Southwest Power Pool, Inc.

Description: § 205(d) Rate Filing: 1313R17 Oklahoma Gas and Electric Company NITSA and NOA to be effective 2/1/2023.

Filed Date: 12/2/22.

Accession Number: 20221202-5061.

Comment Date: 5 p.m. ET 12/23/22.

Docket Numbers: ER23-549-000.

Applicants: Consolidated Edison Company of New York, Inc., New York Independent System Operator, Inc.

Description: § 205(d) Rate Filing: Consolidated Edison Company of New York, Inc. submits tariff filing per 35.13(a)(2)(iii: NYISO-ConEd Joint 205: TPIA NYISO, ConEd, Transco SA2734—CEII to be effective 11/17/2022.

Filed Date: 12/2/22.

Accession Number: 20221202-5063.

Comment Date: 5 p.m. ET 12/23/22.

Docket Numbers: ER23-550-000.

Applicants: PJM Interconnection, L.L.C.

Description: § 205(d) Rate Filing: Amendment to ISA No. 3741, Queue #Y3-012 (amend) to be effective 12/23/2013.

Filed Date: 12/2/22.

Accession Number: 20221202-5085.

Comment Date: 5 p.m. ET 12/23/22.

Docket Numbers: ER23-551-000.

Applicants: Arizona Public Service Company.

Description: § 205(d) Rate Filing: Rate Schedule No. 314—Pseudo-Tie with WAPA and AEPCO to be effective 2/1/2023.

Filed Date: 12/2/22.

Accession Number: 20221202-5089.

Comment Date: 5 p.m. ET 12/23/22.

Docket Numbers: ER23-552-000.

Applicants: Alabama Power Company, Georgia Power Company, Mississippi Power Company.

Description: § 205(d) Rate Filing: Alabama Power Company submits tariff filing per 35.13(a)(2)(iii: Putney Solar (Solar & Battery) LGIA Filing to be effective 11/23/2022.

Filed Date: 12/2/22.

Accession Number: 20221202-5095.

Comment Date: 5 p.m. ET 12/23/22.

Docket Numbers: ER23-553-000.

Applicants: Alabama Power Company, Georgia Power Company, Mississippi Power Company.

Description: § 205(d) Rate Filing: Alabama Power Company submits tariff filing per 35.13(a)(2)(iii: BS Solar (Solar & Battery) LGIA Filing to be effective 11/23/2022.

Filed Date: 12/2/22.

Accession Number: 20221202-5097.

Comment Date: 5 p.m. ET 12/23/22.

Docket Numbers: ER23-554-000.

Applicants: Alabama Power Company, Georgia Power Company, Mississippi Power Company.

Description: Tariff Amendment: Alabama Power Company submits tariff filing per 35.15: Macon Parkway Solar Project LGIA Termination Filing to be effective 12/2/2022.

Filed Date: 12/2/22.

Accession Number: 20221202-5098.

Comment Date: 5 p.m. ET 12/23/22.

Docket Numbers: ER23-555-000.

Applicants: PJM Interconnection, L.L.C.

Description: § 205(d) Rate Filing: ISA, SA No. 6710; Queue No. AE2-027 to be effective 11/2/2022.

Filed Date: 12/2/22.

Accession Number: 20221202-5110.

Comment Date: 5 p.m. ET 12/23/22.

Docket Numbers: ER23-556-000.

Applicants: PJM Interconnection, L.L.C.

Description: § 205(d) Rate Filing: First Revised ISA, SA No. 3395; Queue No. AE1-134 to be effective 11/2/2022.

Filed Date: 12/2/22.

Accession Number: 20221202-5120.

Comment Date: 5 p.m. ET 12/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2022.
Kimberly D. Bose,
Secretary.

[FR Doc. 2022-26685 Filed 12-7-22; 8:45 am]

BILLING CODE 6717-01-P